DEPARTMENT OF COMMERCE

International Trade Administration

[A-552-801]

Certain Frozen Fish Fillets from the Socialist Republic of Vietnam: Extension of Time Limit for Preliminary Results of the Seventh Antidumping Duty New Shipper Reviews

AGENCY: Import Administration, International Trade Administration, Department of Commerce.

EFFECTIVE DATE: August 9, 2010.

FOR FURTHER INFORMATION CONTACT: Alan Ray, AD/CVD Operations, Office 9, Import Administration, International Trade Administration, U.S. Department of Commerce, 14th Street and Constitution Avenue, NW, Washington, DC 20230; telephone: (202) 482-5403.

SUPPLEMENTARY INFORMATION:

Background

On March 29, 2010, the Department of Commerce (“Department”) published a notice of initiation of antidumping duty new shipper reviews for certain frozen fish fillets from the Socialist Republic of Vietnam covering the period August 1, 2009, through February 15, 2010. See Certain Frozen Fish Fillets From the Socialist Republic of Vietnam: Initiation of Antidumping Duty New Shipper Reviews, 75 FR 15416, (March 29, 2010). The preliminary results are currently due on September 19, 2010.

Extension of Time Limits for Preliminary Results

Section 751(a)(2)(B)(iv) of the Tariff Act of 1930, as amended (“Act”), and 19 CFR 351.214(i)(1) require the Department to issue the preliminary results in an administrative review of an antidumping duty order 180 days after the date on which the new shipper review was initiated. The Department may, however, extend the deadline for completion of the preliminary results of a new shipper review to 300 days if it that the case is extraordinarily complicated. See 19 CFR 351.214(i)(2).

The Department determines that these new shipper reviews involve extraordinarily complicated methodological issues. The Department is extending the deadline because it intends to provide parties additional time to submit surrogate value data and thus will require additional time to analyze these data. Furthermore, the Department will also need additional time to consider integrated farming operations. The Department concludes that these new shipper reviews are extraordinarily complicated. We are therefore extending the time for the completion of the preliminary results of this review by 120 days to January 17, 2010.

This notice is published in accordance with section 751(a)(2)(B)(iv) and 777(i) of the Act

Dated: August 3, 2010.
Edward C. Yang,
Acting Deputy Assistant Secretary for Antidumping and Countervailing Duty Operations.

[FR Doc. 2010-19576 Filed 8-6-10; 8:45 am]

BILLING CODE 3510-DS-S